DEPARTMENT OF ENERGY

Federal Energy Regulatory Commission

Project No. 1881-050

PPL Holtwood, LLC; Notice of Scoping Meeting and Soliciting Scoping Comments

March 17, 2008.

a. Application Type: Amendment of license to increase the installed capacity.

b. Project No.: 1881-050.

c. Date Filed: December 20, 2007, and supplemented on January 4 and February 20, 2008.

d. Applicant: PPL Holtwood, LLC.

e. Name of Project: Holtwood Hydroelectric Project.

f. Location: The project is located on the Susquehanna River, in Lancaster and York Counties, Pennsylvania.

g. Filed Pursuant to: Federal Power Act, 16 U.S.C. 791a—825r

h. Applicant Contact: Dennis J. Murphy, Vice President & Chief Operating Officer, PPL Holtwood, LLC, Two North Ninth Street (GENPL6), Allentown, Pennsylvania 18101; telephone (610) 774-4316.

i. FERC Contact: Linda Stewart, telephone: (202) 502-6680, and e-mail: linda.stewart@ferc.gov.

j. Deadline for filing scoping comments: May 2, 2008.

All documents (original and eight copies) should be filed with: Kimberly D. Bose, Secretary, Federal Energy Regulatory Commission, 888 First Street, NE., Washington, DC 20426.

The Commission's Rules of Practice and Procedure require all intervenors filing documents with the Commission to serve a copy of that document on each person on the official service list for the project. Further, if an intervenor files comments or documents with the Commission relating to the merits of an issue that may affect the responsibilities of a particular resource agency, they must also serve a copy of the document on that resource agency.

Scoping comments may be filed electronically via the Internet in lieu of paper. The Commission strongly encourages electronic filings. See 18 CFR 385.2001(a)(1)(iii) and the instructions on the Commission's Web site (http://www.ferc.gov) under the “e-Filing” link.

k. Description of Request:

(i) Amendment to Project Design: PPL Holtwood LLC (PPL Holtwood or licensee) proposes to increase the installed capacity of the Holtwood Project by constructing a new powerhouse with two turbine generator units, installing two new generating units in the existing powerhouse, and refurbishing four generating units in the existing powerhouse (Units 1, 2, 4, and 7). The total installed capacity of the project would increase from 107.2 megawatts to 195.5 megawatts and the total hydraulic capacity of the project would increase from 31,500 cubic feet per second to approximately 61,460 cubic feet per second. PPL Holtwood also proposes to construct a new skimmer wall upstream of the powerhouses, and to perform excavation in the forebay to replace deteriorating infrastructure as well as enable flows to enter the new generating units. In order to improve fish passage at the project, PPL Holtwood proposes to: (1) Modify the existing fish lift; (2) reroute the discharge of Unit 1 in the existing powerhouse; and (3) excavate in the project tailrace and spillway. PPL Holtwood also proposes to implement additional measures to enhance migratory fish passage, provide for minimum flows, and perform studies and evaluations. PPL Holtwood requests the modification of license articles that are related to the above proposed design changes

(ii) Extension of Term of License: PPL Holtwood requests a 16-year extension of the current license term to September 1, 2030.

l. Scoping Process: The purpose of this notice is to inform you of the opportunity to participate in the upcoming scoping meetings identified below, and to solicit your scoping comments. This meeting will satisfy the NEPA scoping requirements.

Scoping Meetings

The licensee and Commission staff will hold two scoping meetings, one in the daytime and one in the evening, to help us identify the scope of issues to be addressed.

The daytime scoping meeting will focus on resource agency concerns, while the evening scoping meeting is primarily for public input. All interested individuals, organizations, and agencies are invited to attend one or both of the meetings, and to assist the staff in identifying the environmental issues that should be analyzed in the Environmental Impact Statement (EIS). The times and locations of these meetings are as follows:

Daytime meeting | Evening meeting
Thursday April 17, 2008 | Thursday April 17, 2008
2 p.m. to 4 p.m., Holtwood Environmental Center, 9 New Village Road, Holtwood, PA 17532 | 6:30 p.m. to 8:30 p.m., Travellodge Inn and Suites and Conference Center, 1492 Lititz Pike, Lancaster, PA 17601

To help focus discussions, Scoping Document 1 (SD1), which outlines the subject areas to be addressed in the EIS, was mailed to the individuals and entities on the Commission's mailing list on March 17, 2008. Copies of the SD1 also will be available at the scoping meetings. SD1 is available for review at the Commission in the Public Reference Room, or may be viewed on the Commission's Web site at http://www.ferc.gov using the “eLibrary” link. Enter the docket number excluding the last three digits in the docket number field to access the document. For assistance, contact FERC Online Support at FERCOnlineSupport@ferc.gov, or toll-free at 1-866-208-3676, or for TTY, (202) 502-8659.

You may also register online at http://www.ferc.gov/docs-filing/esubscription.asp to be notified via e-mail of new filings and issuances related to this or other pending projects. For assistance, contact FERC Online Support.

Based on all written comments received, a Scoping Document 2 (SD2) may be issued, if needed. SD2 will include a revised list of issues, as determined by the scoping process.

Meeting Objectives

At the scoping meetings, the staff will: (1) Summarize the environmental issues tentatively identified for analysis in the EIS; (2) solicit from the meeting participants all available information, especially quantifiable data, on the resources at issue; (3) encourage statements from experts and the public on issues that should be analyzed in the EIS, including viewpoints in opposition to, or in support of, the staff's preliminary views; (4) determine the resource issues to be addressed in the EIS; and (5) identify those issues that require a detailed analysis, as well as those issues that do not require a detailed analysis.

Individuals, organizations, and agencies with environmental expertise and concerns are encouraged to attend the meetings and to assist the licensee and Commission staff in defining and clarifying the issues to be addressed in the EIS. Please review the SD1 in preparation for the scoping meetings. Instructions on how to obtain copies of the SD1 are included above.

Meeting Procedures

The meetings will be recorded by a court reporter and will become part of the formal record of the Commission proceeding on the project.

Site Visit

The licensee and Commission staff will conduct a site visit of the project on Thursday, April 17, 2008.

The site visit to Holtwood dam will take place at 10:30 a.m. on Thursday April 17, 2008. We will meet at the security gate; parking is limited so participants are encouraged to car pool. Access to the dam site is secure, and any individuals wishing to participate in the site visit will be required to meet the licensee's public safety requirements.

Kimberly D. Bose,
Secretary.

[FR Doc. E8-5846 Filed 3-21-08; 8:45 am]

BILLING CODE 6717-01-P